DEPARTMENT OF EDUCATION

[Docket ID ED-2017-IES-0082]

Privacy Act of 1974; System of Records

AGENCY: Institute of Education Sciences, Department of Education.

ACTION: Notice of a new system of records.

SUMMARY: In accordance with the Privacy Act of 1974, as amended (Privacy Act), the Department of Education (the Department) publishes this notice of a new system of records entitled “Impact Study of Feedback for Teachers based on Classroom Videos (18-13-40).” This system contains individually identifying information provided by individuals and school districts who participate in the impact study. The information contained in the records maintained in this system will be used to conduct a rigorous study of the effectiveness of support to teachers based on their teaching practices within their classroom.

DATES: Submit your comments on this new system of records notice on or before April 13, 2018.

This new system of records will become applicable upon publication in the Federal Register on March 14, 2018, unless the new system of records notice needs to be changed as a result of public comment. The routine uses listed under “ROUTINE USES OF RECORDS MAINTAINED IN THE SYSTEM, INCLUDING CATEGORIES OF USERS AND PURPOSES OF SUCH USES” will become applicable on April 13, 2018, unless the new system of records notice needs to be changed as a result of public comment. The Department will publish any significant changes to the system of records or routine uses that result from public comment.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about this new system of records, address them to: Teresa Cahalan, SORN Coordinator, Institute of Education Sciences, U.S. Department of Education, Potomac Center Plaza, 550 12th Street SW, Room 4126, Washington, DC 20202.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Teresa Cahalan, SORN Coordinator, Institute of Education Sciences, U.S. Department of Education, Potomac Center Plaza, 550 12th Street SW, Room 4126, Washington, DC 20202 or by email at IES_SORN@ed.gov.

If you use a telecommunications device for the deaf (TDD) or a text telephone (TTY), you may call the Federal Relay Service, at 1-800-877-8339.

SUPPLEMENTARY INFORMATION: Introduction: The information contained in the records maintained in this system will be used to conduct a rigorous study of the effectiveness of feedback for teachers based on classroom videos to inform effective teacher preparation and professional development.

The study will address the following central research questions: What is the impact on teaching practices and student achievement of providing novice teachers with feedback on their teaching using multiple videos of their classroom practices? What is the impact on teaching practices and student achievement of providing early career teachers (those in their second, third, or fourth year of teaching) with feedback on their teaching using multiple videos of their classroom practices? Secondary research questions for the study are: Is intensive feedback more effective for certain types of teachers or students? On which teaching practices should feedback interventions focus?

Accessible Format: Individuals with disabilities can obtain this document in an accessible format (e.g., braille, large print, audiotape, or compact disc) on request to the person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at this site.

You may also access documents of the Department published in the Federal Register by using the article search feature at: www.federalregister.gov. Specifically, through the advanced search feature at this site, you can limit your search to documents published by the Department.

Dated: March 8, 2018.
Thomas Brock,
Commissioner, National Center for Education Research, Delegated the Duties of the Director of the Institute of Education Sciences.

SYSTEM NAME AND NUMBER:

Impact Study of Feedback for Teachers based on Classroom Videos (18-13-40).

SECURITY CLASSIFICATION:

Unclassified.

SYSTEM LOCATION:

The location is at Mathematica Policy Research, P.O. Box 2393, Princeton, NJ 08543-2393 (contractor).

SYSTEM MANAGER:

Project's contracting officer representative, Institute of Education Sciences, U.S. Department of Education, Potomac Center Plaza, 550 12th Street SW, Room 4114, Washington, DC 20202.

AUTHORITY FOR MAINTENANCE OF THE SYSTEM:

The study is authorized under sections 171(b) and 173 of the Education Sciences Reform Act of 2002 (ESRA)(20 U.S.C. 9561(b) and 9563) and section 8601 of the Elementary and Secondary Education Act of 1965, as amended by the Every Student Succeeds Act (20 U.S.C. 7981).

PURPOSE(S) OF THE SYSTEM:

The information contained in the records maintained in this system will be used to conduct a rigorous study of the effectiveness of feedback for teachers based on classroom videos to inform effective teacher preparation and professional development.

The study will address the following central research questions: What is the impact on teaching practices and student achievement of providing novice teachers with feedback on their teaching using multiple videos of their classroom practices? What is the impact on teaching practices and student achievement of providing early career teachers (those in their second, third, or fourth year of teaching) with feedback on their teaching using multiple videos of their classroom practices? Secondary research questions for the study are: Is intensive feedback more effective for certain types of teachers or students? On which teaching practices should feedback interventions focus?

CATEGORIES OF INDIVIDUALS COVERED BY THE SYSTEM:

The system of records will include individually identifying information about teachers who participate in the study and their students. The system will contain records on approximately 500 teachers and 10,625 students from up to 12 school districts.

CATEGORIES OF RECORDS IN THE SYSTEM:

For teachers, this information will include, but will not necessarily be limited to, teacher name, background characteristics, teaching experience, teacher preparation experiences, knowledge of teaching practice, experience with professional development, feedback to support their teaching practice, and videos of classroom practice and ratings of teaching practice conducted by the study team using the videos. For students, this information will include, but will not necessarily be limited to, standardized math and English/Language Arts test scores, age, sex, race/ethnicity, grade, eligibility for free/reduced-price lunches, English Learner status, and individualized education plan status.

RECORD SOURCE CATEGORIES:

Data will be obtained through: Human resource and student administrative records maintained by the school districts; videos of classroom practice and ratings of teaching practice conducted by the study team using the videos; and surveys of teachers administered by the study team.

ROUTINE USES OF RECORDS MAINTAINED IN THE SYSTEM, INCLUDING CATEGORIES OF USERS AND PURPOSES OF SUCH USES:

The Department may disclose information contained in a record in this system of records under the routine uses listed in this system of records without the consent of the individual if the disclosure is compatible with the purposes for which the record was collected. The Department may make these disclosures on a case-by-case basis. Any disclosure of individually identifiable information from a record in this system must also comply with the requirements of section 183 of the ESRA (20 U.S.C. 9573) providing for confidentiality standards that apply to all collection, reporting, and publication of data by the Institute of Education Sciences. Any disclosure of personally identifiable information from student education records that were obtained from school districts must also comply with the requirements of the Family Educational Rights and Privacy Act (FERPA) (20 U.S.C. 1232g; 34 CFR part 99), which protects the privacy of student education records.

(1) Teacher Identification Disclosure. In order for the Department to link teacher data that the Department maintains as part of this study to the administrative records of that teacher's students maintained by the participating school districts for purposes consistent with the conduct of the study, the Department may disclose to each participating school district the identities of teachers from that school district who are participating in this study.

(2) Contract Disclosure. If the Department contracts with an entity for the purposes of performing any function that requires disclosure of records in this system to employees of the contractor, the Department may disclose the records to those employees. As part of such a contract, the Department will require the contractor to agree to maintain safeguards to protect the security and confidentiality of the records disclosed from the system.

(3) Research Disclosure. The Director of the Institute of Education Sciences may disclose information from this system of records to qualified researchers solely for the purpose of carrying out specific research that is compatible with the purpose(s) of this system of records. The classroom videos will not be included in disclosures of records that are made under this routine use. The researcher must agree to maintain safeguards to protect the security and confidentiality, consistent with section 183(c) of the ESRA (20 U.S.C. 9573(c)) of the records disclosed from this system. When personally identifiable information from a student's education record will be disclosed to the researcher, under FERPA (20 U.S.C. 1232g(b)), the researcher also must agree to comply with the requirements in the applicable FERPA exception to consent.

POLICIES AND PRACTICES FOR STORAGE OF RECORDS:

Records in this system of records are maintained in a secure, password-protected electronic system.

POLICIES AND PRACTICES FOR RETRIEVAL OF RECORDS:

Records in this system will be indexed and retrieved by a unique number assigned to each teacher that will be cross-referenced by the individual's name on a separate list.

The contractor's employees who “maintain” (collect, maintain, use, or disseminate) data in this system must comply with the requirements of the Privacy Act of 1974, as amended (Privacy Act) (5 U.S.C. 552a) and the confidentiality standards in section 183 of the ESRA (20 U.S.C. 9573).

POLICIES AND PRACTICES FOR RETENTION AND DISPOSAL OF RECORDS:

The Department shall submit a retention and disposition schedule that covers the records contained in this system to the National Archives and Records Administration (NARA) for review. The records will not be destroyed until such time as NARA approves said schedule.

ADMINISTRATIVE, TECHNICAL, AND PHYSICAL SAFEGUARDS:

Security protocols for this system of records (Impact Study of Feedback for Teachers based on Classroom Videos) meet all required security standards

The contractor is required to ensure that information identifying individuals is in files physically separated from other research data and electronic files identifying individuals are separated from other electronic research data files. The contractor will maintain security of the complete set of all master data files and documentation. Access to individually identifiable data will be strictly controlled. All information will be kept in locked file cabinets during nonworking hours, and work on hardcopy data will take place in a single room, except for data entry.

Physical security of electronic data also will be maintained. Security features that protect project data will include: Password-protected accounts that authorize users to use the contractor's system but to access only specific network directories and network software; user rights and directory and file attributes that limit those who can use particular directories and files and determine how they can use them; and additional security features that the network administrators will establish for projects as needed. The contractor's employees who “maintain” (collect, maintain, use, or disseminate) data in this system must comply with the requirements of the Privacy Act and the confidentiality standards in section 183 of the ESRA (20 U.S.C. 9573).

RECORD ACCESS PROCEDURES:

If you wish to request access to your records, you must contact the system manager at the address listed under SYSTEM MANAGER AND ADDRESS. Your request must provide the necessary particulars of your full name, address, telephone number, and any other identifying information requested by the Department while processing the request, to distinguish between individuals with the same name. Your request must meet the requirements of the Department's Privacy Act regulations at 34 CFR 5b.5, including proof of identity.

CONTESTING RECORD PROCEDURES:

If you wish to contest the content of a record regarding you in the system of records, you must contact the system manager at the address listed above. Your request must meet the requirements of the Department's Privacy Act regulations at 34 CFR 5b.7.

NOTIFICATION PROCEDURES:

If you wish to inquire whether a record exists regarding you in this system, you must contact the system manager at the address listed above. You must provide the necessary particulars of your full name, address, telephone number, and any other identifying information requested by the Department while processing the request, to distinguish between individuals with the same name. Your request must meet the requirements of the Department's Privacy Act regulations at 34 CFR 5b.5, including proof of identity.

EXEMPTIONS PROMULGATED FOR THE SYSTEM:

None.

HISTORY:

None.

[FR Doc. 2018-05195 Filed 3-13-18; 8:45 am]

BILLING CODE 4000-01-P